DEPARTMENT OF TRANSPORTATION

Pipeline and Hazardous Materials Safety Administration

Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 23, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SE., Washington DC or at http://regulations.gov.

This notice of receipt of applications for special permit is published in accordance with Part 107 of the Federal hazardous materials transportation law (49 U.S.C. 5117(b); 49 CFR 1.53(b)).

Issued in Washington, DC, on October 15, 2012.
Donald Burger,
Chief, General Approvals and Permits.

New Special Permits
Application No. | Docket No. | Applicant | Regulation(s) affected | Nature of special permit thereof
15712-N |  | Air Transport International, Little Rock, AR | 49 CFR 172.101 Column (9B); 172.204(c)(3); 173.27(b)(2)(3); 175.30(a)(1) | To authorize the air transportation in commerce of certain explosives which are forbidden for shipment by cargo-only aircraft. (mode 4)
15713-N |  | Bulk Tank International, Guanajuato, Mexico | 49 CFR 178.345-2; 178.346-2; 178.347-2; 178.348-2 | To authorize the manufacture, marking, sale and use of DOT 400 series cargo tanks using alternative materials of construction, specifically duplex stainless steels. (mode 1)
15716-N |  | Department of Energy, Washington, DC | 49 CFR 49 CFR § 173.310 | To authorize the transportation in commerce of boron trifluoride in radiation detectors. (mode 1)
15718-N |  | Siex, Burgos, Apain | 49 CFR 173.302a and 173.304a | To authorize the transportation in commerce of Division 2.2 gases in non-DOT specification cylinders. (modes 1, 3)
15719-N |  | Ameripak, Pontiac, MI | 49 CFR 173.185 | To authorize the manufacture, mark, sale and use of UN50D plywood box for the transportation in commerce of lithium batteries. (mode 1)
15720-N |  | Digital Wave Corporation, Centennial, CO | 49 CFR 180.205(g) | To extend the service life of certain permitted cylinders by certifying them by an alternative retest.
15721-N |  | Hunter Well Science, Arlington, TX | 49 CFR 173.301(1); 173.304a; 173.304a(a); 173.304a(a)(2) | To authorize the transportation in commerce of a Division 2.2 gas in a non-DOT specification cylinder. (modes 1, 3, 4, 5)
15722-N |  | Raytheon Missile Systems; Tucson, AZ | 49 CFR 172.101 Column (9B); 172.204(c)(3); 173.27(B)(2)(3); 175.30(a)(1) | To authorize the air transportation in commerce of certain explosives which are forbidden for shipment by cargo-only aircraft. (mode 4)
15723-N |  | Entegris, Chaska, MN | 49 CFR 173.212; 173.213; 173.240; 173.241; 176.83 | To authorize the transportation in commerce of Division 4.1 and 4. material in non-specification packaging. (modes 1, 2, 3, 4)
15725-N |  | Toray Composites (America), Tacoma, WA | 49 CFR 173.225 | To authorize the one-time one-way transportation of organic peroxides in packaging not authorized by the competent authority approval. (mode 1)
15726-N |  | Giant Resource, Recovery—Attalla, Inc., Attalla, AL | 49 CFR 173.306(k)(2); 173.156(b) | To authorize the transportation in commerce of waste aerosol cans in intermediate bulk containers without covering or clipping the valve stems. (mode 1)
15727-N |  | Blackhawk Helicopters, El Cajon, CA | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the US without meeting certain hazard communication and stowage requirements. (mode 4)
15728-N |  | Brennder Tank LLC, Fond du Lac, WI | 49 CFR 107.503(b) and (c); 172.102(c)(3); 173.203(a); 173.241; 173.242; 173.243; 178.345-1, -2, -3, -4, -7, -14, -15; 178.347-1, -2; 178.348-1, -2 | To authorize the manufacture, mark, sale, and use of non-DOT specification FRP cargo tanks conforming to specification DOT 407, DOT 412, or combination thereof. (mode 1)

[FR Doc. 2012-25857 Filed 10-22-12; 8:45 am]

BILLING CODE 4909-60-M